SECURITIES AND EXCHANGE COMMISSION

[OMB Control No. 3235-0219]

Agency Information Collection Activities; Proposed Collection; Comment Request; Reinstatement With Change: Rule 30a-1

Upon Written Request, Copies Available From: Securities and Exchange Commission, Office of FOIA Services, 100 F Street NE, Washington, DC 20549-2736.

Notice is hereby given that, pursuant to the Paperwork Reduction Act of 1995 (44 U.S.C. 3501 et seq.), the Securities and Exchange Commission (the “Commission” or “SEC”) is soliciting comments on the collection of information summarized below. The Commission plans to submit this existing collection of information to the Office of Management and Budget for reinstatement.

The title for the collection of information is “Rule 30a-1 (17 CFR 270.30a-1) under the Investment Company Act of 1940.”

The Commission is seeking to reinstate the Paperwork Reduction Act (“PRA”) information collection request for rule 30a-1 (17 CFR 270.30a-1) under the Investment Company Act of 1940 under OMB control number 3235-0219 for the purpose of discontinuing this information collection. The last Commission request for OMB approval under this control number was submitted in May of 2000. Rule 30a-1 is an active rule, but it has been amended since the last PRA submission in 2000. The current rule requires investment companies and unit investment trusts to file an annual report on Form N-CEN at least every twelve months. The burden associated with the information request outlined within rule 30a-1 is contained within the information collection request for Form N-CEN under OMB control number 3235-0729. Thus, there has been no lapse in reporting the burden associated with rule 30a-1. Since the burden is being reported under an alternative ICR, the Commission is seeking to reinstate the rule 30a-1 ICR under control number 3235-0729 in order to have it properly discontinued. Moving forward, the Commission will reference rule 30a-1 within the ICR for Form N-CEN.

The requirements of this collection of information are mandatory. Responses will not be kept confidential. An agency may not conduct or sponsor, and a person is not required to respond to a collection of information unless it displays a currently valid control number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by October 6, 2025. There will be a second opportunity to comment on this SEC request following the Federal Register publishing a 30-Day Submission Notice.

Dated: August 4, 2025.
Sherry R. Haywood,
Assistant Secretary.

[FR Doc. 2025-14928 Filed 8-5-25; 8:45 am]

BILLING CODE 8011-01-P